DEPARTMENT OF AGRICULTURE

Agricultural Marketing Service

[Doc. No. FV-03-376]

Fruit and Vegetable Industry Advisory Committee

AGENCY: Agricultural Marketing Service, USDA.

ACTION: Notice of public meeting.

SUMMARY: The purpose of this notice is to notify all interested parties that the Agricultural Marketing Service (AMS) will hold a Fruit and Vegetable Industry Advisory Committee (Committee) meeting that is open to the public. The U.S. Department of Agriculture (USDA) established the Committee to examine the full spectrum of issues faced by the fruit and vegetable industry and provide suggestions and ideas to the Secretary of Agriculture on how USDA can tailor its programs to meet the fruit and vegetable industry's needs. This notice sets forth the schedule and location for the meeting.

DATES: The Committee meeting, which is open to the public, will be held on Tuesday, April 1, 2003, from 8 a.m. to 5:30 p.m.

ADDRESSES: The Committee meeting will be held at the Sheraton Reston Hotel, 11810 Sunrise Valley Drive, Reston, Virginia 20191.

FOR FURTHER INFORMATION CONTACT: Robert C. Keeney, Deputy Administrator, Fruit and Vegetable Programs, AMS, USDA, 1400 Independence Avenue, SW., Room 2077-S, Stop 0235, Washington, DC 20250-0235. Telephone: (202) 720-4722. Facsimile: (202) 720-0016. E-mail: robert.keeney@usda.gov.

SUPPLEMENTARY INFORMATION: Pursuant to the Federal Advisory Committee Act (FACA) (5 U.S.C. App.), the Secretary of Agriculture established the Committee to examine the full spectrum of issues faced by the fruit and vegetable industry and to provide suggestions and ideas to the Secretary on how USDA can tailor its programs to meet the fruit and vegetable industry's needs.

The Chairperson of the Committee is Maureen Marshall and Vice-Chairperson is Karen Caplan. AMS Deputy Administrator for Fruit and Vegetable Programs, Robert C. Keeney, serves as the Committee's Executive Secretary and Andrew Hatch as the Designated Federal Official. Representatives from USDA mission areas and other government agencies affecting the fruit and vegetable industry will be called upon to participate in the Committee's meetings as determined by the Committee Chairperson. AMS is giving notice of the committee meeting to the public so that they may wish to attend and present their recommendations. The meeting is scheduled from 8 a.m. to 5 p.m. on Tuesday, April 1, 2003, at the Sheraton Reston Hotel, 11810 Sunrise Valley Drive, Reston, Virginia 20191.

Topics to be discussed at the meeting will include: USDA programs that encourage increased consumption of fruits and vegetables; a pilot project to increase purchases of fresh produce for domestic feeding programs; labor issues; and the Good Agricultural Practices (GAP) and Good Handling Practices (GHP) Audit Program.

Those parties that wish to speak at the meeting should register on or before March 30, 2003. To register as a speaker or attend as an observer, please e-mail andrew.hatch@usda.gov or facsimile to (202) 720-0016. Registrants should include their name, address, and daytime telephone number. Depending on the number of registered speakers, time limits may be imposed on speakers. Speakers who have registered in advance will be given priority.

If you require special accommodations, such as a sign language interpreter, please contact the person listed under FOR FURTHER INFORMATION CONTACT. The meeting will be recorded, and information about obtaining a transcript will be provided at the meeting.

The Secretary of Agriculture has selected a diverse group of members representing a broad spectrum of persons interested in providing suggestions and ideas on how USDA can tailor its programs to meet the fruit and vegetable industry's needs. Equal opportunity practices were considered in all appointments to the Committee in accordance with USDA policies.

Dated: March 11, 2003.
A.J. Yates,
Administrator, Agricultural Marketing Service.

[FR Doc. 03-6387 Filed 3-17-03; 8:45 am]

BILLING CODE 3410-02-P